DEPARTMENT OF HEALTH AND HUMAN SERVICES

National Institutes of Health

Enrollment and Retention of Participants in NIH-Funded Clinical Trials—Notice of Meeting

SUMMARY: The National Institutes of Health (NIH) will hold a teleconference with interested stakeholders to gather perspectives on issues related to the enrollment and retention of research participants in NIH-funded clinical trials. The stakeholder input will inform the planning of an NIH workshop on this topic that will be scheduled this summer.

DATES: May 16, 2014, from 3:00 p.m.-4:30 p.m., ET.

ADDRESSES: The meeting will be held by teleconference. A teleconference agenda and logistical information will be posted in advance of the teleconference at the following Web site: http://osp.od.nih.gov/.

FOR FURTHER INFORMATION CONTACT: Valery Gordon, Ph.D., Acting Director, Clinical Research Program, Office of Science Policy, NIH; email: gordonv@od.nih.gov; telephone: 301-496-9838.

SUPPLEMENTARY INFORMATION: The stakeholder teleconference meeting will enable the NIH to gather perspectives from interested parties on issues related to the clinical trial recruitment and retention that could be explored in the workshop. For the purposes of planning the workshop agenda, the NIH is particularly interested in the perspectives of public foundations and other organizations currently working in this area. The topics that are to be explored in the workshop include the following: Outside coordination with NIH-supported clinical trials and public foundations; models to identify and support trial participants; potential public-private partnerships; methods to increase participation, including underrepresented and uninsured populations; and potential measures to track and monitor participation in NIH-supported clinical trials.

Dated: April 26, 2014.
Lawrence A. Tabak,
Principal Deputy Director, NIH.

[FR Doc. 2014-10154 Filed 5-2-14; 8:45 am]

BILLING CODE 4140-01-P